DEPARTMENT OF TRANSPORTATION

Surface Transportation Board

[Docket No. FD 35658]

Mineral Range, Inc.—Acquisition and Operation Exemption—Rail Line of Lake Superior & Ishpeming Railroad Company

Mineral Range, Inc. (MRI), a noncarrier, has filed a verified notice of exemption under 49 CFR 1150.31 to acquire from Lake Superior & Ishpeming Railroad Company (LSI) and to operate over: (1) 12.06 miles of rail line between milepost 73.60 at or near Landing Junction and milepost 85.66 at or near Humboldt Junction in Marquette County, Mich. (Segment 1); and (2) 1.90 miles of railbanked railroad right-of-way between milepost 85.66 at or near Humboldt Junction and milepost 87.56 at or near Humboldt in Marquette County, Mich. (Segment 2).

On January 19, 2005, a decision and notice of interim trail use or abandonment (NITU) was served in Lake Superior & Ishpeming Railroad—Abandonment Exemption—In Marquette County, Mich., AB 68 (Sub-No. 4X), establishing a 180-day period under the National Trails System Act, 16 U.S.C. 1247(d), for LSI to negotiate an interim trail use/rail banking agreement for a segment of rail line extending from Humboldt Junction (milepost 85.66) to the end of the line at Republic Mine (milepost 94.5), a distance of approximately 8.9 miles that includes Segment 2. Trail negotiations were successful and an agreement was reached between LSI and the Michigan Department of Natural Resources (MDNR). MRI now seeks to reinstitute rail service over Segment 2 as a successor in interest to LSI, an action with which LSI expressly concurs. The remaining portion of the railbanked right-of-way subject to the NITU south of Humboldt (milepost 87.56) would continue to be railbanked and used by MDNR as a recreational trail and is not at issue here.¹

¹ MRI simultaneously filed a petition for partial vacation of the NITU issued in Lake Superior & Ishpeming Railroad—Abandonment Exemption—in Marquette County, Mich., AB 68 (Sub-No. 4X) (STB served Jan. 19, 2005). The petition will be addressed in a separate decision.

MRI certifies that its projected annual revenues as a result of this transaction will not exceed those that would qualify it as a Class III rail carrier, and that the projected annual revenues of MRI to be created by the subject transaction do not exceed $5 million.

The transaction is scheduled to be consummated on or after September 6, 2012 (30 days after the exemption is filed).

If the notice contains false or misleading information, the exemption is void ab initio. Petitions to revoke the exemption under 49 U.S.C. 10502(d) may be filed at any time. The filing of a petition to revoke does not automatically stay the transaction. Petitions to stay must be filed no later than August 30, 2012 (at least seven days before the exemption becomes effective).

An original and 10 copies of all pleadings, referring to Docket No. FD 35658 must be filed with the Surface Transportation Board, 395 E Street SW., Washington, DC 20423-0001. In addition, a copy of each pleasing must be served on Thomas F. McFarland, 208 South LaSalle Street, Suite 1890, Chicago, IL 60604-1112.

Board decisions and notices are available on our Web site at www.stb.dot.gov.

Decided: August 20, 2012.
By the Board, Rachel D. Campbell, Director, Office of Proceedings.
Raina S. White,
Clearance Clerk.

[FR Doc. 2012-20754 Filed 8-22-12; 8:45 am]

BILLING CODE 4915-01-P